ENVIRONMENTAL PROTECTION AGENCY

40 CFR Part 52

[EPA-R03-OAR-2015-0404; FRL-9930-61-Region 3]

Approval and Promulgation of Air Quality Implementation Plans; Maryland; Adoption of Control Techniques Guidelines for Metal Furniture Coatings and Miscellaneous Metal Parts Coatings

AGENCY: Environmental Protection Agency (EPA).

ACTION: Proposed rule.

SUMMARY: The Environmental Protection Agency (EPA) is proposing to approve a State Implementation Plan (SIP) revision submitted by the State of Maryland (Maryland). This revision includes amendments to Maryland's regulation for the control of volatile organic compounds (VOC) and meets the requirement to adopt reasonably available control technology (RACT) for sources covered by EPA's Control Techniques Guidelines (CTG) standards for coatings for metal furniture and miscellaneous metal parts. These amendments will reduce emissions of VOC from these source categories and help Maryland attain and maintain the national ambient air quality standard (NAAQS) for ozone. This action is being taken under the Clean Air Act (CAA).

DATES: Written comments must be received on or before August 17, 2015.

ADDRESSES: Submit your comments, identified by Docket ID Number EPA-R03-OAR-2015-0404 by one of the following methods:

A. www.regulations.gov. Follow the on-line instructions for submitting comments.

B. Email: fernandez.cristina@epa.gov.

C. Mail: EPA-R03-OAR-2015-0404, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0404. EPA's policy is that all comments received will be included in the public docket without change, and may be made available online at www.regulations.gov, including any personal information provided, unless the comment includes information claimed to be Confidential Business Information (CBI) or other information whose disclosure is restricted by statute. Do not submit information that you consider to be CBI, or otherwise protected, through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Ellen Schmitt, (215) 814-5787, or by email at schmitt.ellen@epa.gov.

SUPPLEMENTARY INFORMATION: On July 28, 2014, the State of Maryland through the Maryland Department of the Environment (MDE) submitted a revision to its SIP concerning the adoption of the coating standards located in the Metal Furniture Coatings and the Miscellaneous Metal and Plastic Parts Coatings CTGs.

I. Background

Section 172(c)(1) of the CAA provides that SIPs for nonattainment areas must include reasonably available control measures (RACM), including RACT for sources of emissions. Section 182(b)(2)(A) provides that for certain nonattainment areas, states must revise their SIPs to include RACT for sources of VOC emissions covered by a CTG document issued after November 15, 1990 and prior to the area's date of attainment.

In developing these CTGs, EPA, among other things, evaluates the sources of VOC emissions from these categories, and the available control approaches for addressing these categories, including the cost of such approaches. Based on available information and data, EPA provides recommendations for RACT for VOC from these categories. States can follow the CTGs and adopt state regulations to implement the recommendations contained therein, or they can adopt alternative approaches. In either case, states must submit their RACT rules to EPA for review and approval as part of the SIP process. EPA will evaluate the rules and determine, through notice and comment rulemaking in the SIP approval process, whether the submitted rules meet the RACT requirements of the CAA and EPA's regulations.

In September 2007, EPA published a new CTG for Metal Furniture Coatings (EPA-453/R-07-005), and in September 2008, EPA published a new CTG for Miscellaneous Metal and Plastic Parts Coatings (EPA-453/R-08-003). These CTGs discuss the nature of VOC emissions from these industries, the available control technologies for addressing such emissions, the cost of available control options, and other information. EPA developed new CTGs for these industries after reviewing existing state and local VOC emission reduction approaches, new source performance standards (NSPS), previously issued CTGs, and national emission standards for hazardous air pollutants (NESHAP) for these source categories.

A. Metal Furniture Coatings

Metal furniture coatings include the coatings that are applied to the surfaces of metal furniture. A metal furniture substrate is the furniture or components of furniture constructed either entirely or partially from metal. Metal furniture includes, but is not limited to, the following types of products: Household, office, institutional, laboratory, hospital, public building, restaurant, barber and beauty shop, and dental furniture, as well as components of these products. Metal furniture also includes office and store fixtures, partitions, shelving, lockers, lamps and lighting fixtures, and wastebaskets. Metal furniture coatings include paints and adhesives and are typically applied without a primer. Higher solids and powder coatings are used extensively in the metal furniture surface coating industry. Metal furniture coatings provide a covering, finish, or functional or protective layer, and can also provide a decorative finish to metal furniture.

B. Miscellaneous Metal Parts Coatings

Miscellaneous metal parts surface coating categories include the coatings that are applied to the surfaces of a varied range of metal parts and products. These parts or products are constructed either entirely or partially from metal. They include, but are not limited to, metal components of the following types of products as well as the products themselves: Fabricated metal products, small and large farm machinery, commercial and industrial machinery and equipment, automotive or transportation equipment, interior or exterior automotive parts, construction equipment, motor vehicle accessories, bicycles and sporting goods, toys, recreational vehicles, pleasure craft (recreational boats), extruded aluminum structural components, railroad cars, heavier vehicles,¹ lawn and garden equipment, business machines, laboratory and medical equipment, electronic equipment, steel drums, metal pipes, and numerous other industrial and household products (hereinafter collectively referred to as “miscellaneous metal parts.”) The CTG applies to manufacturers of miscellaneous metal parts that surface-coat the parts they produce. Miscellaneous metal parts coatings do not include coatings that are a part of other product categories listed under section 183(e) of the CAA for which CTGs have been published or coatings addressed by other CTGs.

¹ Heavier vehicles includes all vehicles that meet the definition of the term “other motor vehicles,” as defined in the National Emission Standards for Surface Coating of Automobile and Light-Duty Trucks at 40 CFR 63.3176.

II. Summary of SIP Revision

On July 28, 2014, MDE submitted to EPA a SIP revision (#14-02) concerning the adoption of the emission limits for metal furniture coatings found in the Metal Furniture Coatings CTG and miscellaneous metal parts coatings found in the Miscellaneous Metal and Plastic Parts Coatings CTG.² Maryland has adopted EPA's CTG standards for metal furniture and miscellaneous metal parts coating processes by amending Regulation .08 under COMAR 26.11.19, Volatile Organic Compounds from Specific Sources. Specifically, this revision amends the existing regulation in section 26.11.19.08 by adding coating standards for both metal furniture and miscellaneous metal parts that are either equal to or more stringent than the coating standards found in EPA's CTGs. Additionally, new definitions and application methods were added to COMAR section 26.11.19.08. Tables 1 and 2 outline the emissions standards adopted by Maryland for metal furniture coatings and miscellaneous metal parts coatings. A detailed summary of EPA's review of and rationale for proposing to approve this SIP revision may be found in the Technical Support Document (TSD) for this action which is available online at regulations.gov, Docket number EPA-R03-OAR-2015-0404.

² Maryland previously submitted, and EPA subsequently approved, a SIP revision to meet the requirements to adopt RACT for plastic part coatings covered by the CTG for Miscellaneous Metal and Plastic Parts Coatings. See 76 FR 64020 (October 17, 2011).

Table 1—Metal Furniture Coating VOC Content Limits—VOC Content Limits are Expressed as Mass (Kilogram (kg) or Pound (lb)) Per Volume (Liter (l)) of Coating Less Water and Exempt Compounds, as Applied
Coating | Air-dried: kg VOC/l coating | Air-dried: lb VOC/l coating | Baked: kg VOC/l coating | Baked: lb VOC/l coating
Extreme high gloss | 0.340 | 2.8 | 0.360 | 3.0
Extreme performance | 0.420 | 3.5 | 0.360 | 3.0
General, multi-component | 0.340 | 2.8 | 0.275 | 2.3
General, one-component | 0.275 | 2.3 | 0.275 | 2.3
Metallic | 0.420 | 3.5 | 0.420 | 3.5
Pretreatment | 0.420 | 3.5 | 0.420 | 3.5
Solar absorbent | 0.420 | 3.5 | 0.360 | 3.0

Table 2—Miscellaneous Metal Parts Coating VOC Content Limits—VOC Content Limits are Expressed as Mass (Kilogram (kg) or Pound (lb)) Per Volume (Liter (l)) of Coating Less Water and Exempt Compounds, as Applied
Coating | Air-dried: kg VOC/l coating | Air-dried: lb VOC/l coating | Baked: kg VOC/l coating | Baked: lb VOC/l coating
Adhesion promoter | 0.479 | 4.0 | 0.479 | 4.0
Camouflage | 0.340 | 2.8 | 0.420 | 3.5
Electric insulating varnish | 0.340 | 2.8 | 0.420 | 3.5
Etching filler | 0.340 | 2.8 | 0.420 | 3.5
Extreme high-gloss | 0.420 | 3.5 | 0.360 | 3.0
Extreme performance | 0.420 | 3.5 | 0.360 | 3.0
General, multi-component | 0.340 | 2.8 | 0.275 | 2.3
General, one-component | 0.340 | 2.8 | 0.275 | 2.3
Heat-resistant | 0.420 | 3.5 | 0.360 | 3.0
High performance architectural | 0.420 | 3.5 | 0.360 | 3.0
High temperature | 0.340 | 2.8 | 0.420 | 3.5
Military specification | 0.340 | 2.8 | 0.280 | 2.3
Metallic | 0.340 | 2.8 | 0.420 | 3.5
Mold-seal | 0.340 | 2.8 | 0.420 | 3.5
Pan backing | 0.340 | 2.8 | 0.420 | 3.5
Prefabricated architectural multi-component | 0.420 | 3.5 | 0.280 | 2.3
Prefabricated architectural one-component | 0.420 | 3.5 | 0.280 | 2.3
Pretreatment | 0.340 | 2.8 | 0.420 | 3.5
Repair coating | 0.420 | 3.5 | 0.360 | 3.0
Silicone release | 0.340 | 2.8 | 0.420 | 3.5
Solar absorbent | 0.420 | 3.5 | 0.360 | 3.0
Touch up coating | 0.420 | 3.5 | 0.360 | 3.0
Vacuum-metalizing | 0.340 | 2.8 | 0.420 | 3.5

III. Proposed Action

EPA is proposing to approve the State of Maryland's SIP revision submitted on July 28, 2014, adopting the requirements of EPA's CTGs for the coating of metal furniture and miscellaneous metal parts, as RACT for these source categories. EPA is soliciting public comments on the issues discussed in this document. These comments will be considered before taking final action.

IV. Incorporation by Reference

In this proposed rulemaking action, the EPA is proposing to include in a final EPA rule, regulatory text that includes incorporation by reference. In accordance with requirements of 1 CFR 51.5, the EPA is proposing to incorporate by reference the MDE rules regarding control of VOC emissions from metal furniture and miscellaneous metal parts coatings as described as section II of this proposed action. The EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule, pertaining to Maryland's adoption of CTG recommendations for metal furniture and miscellaneous metal parts coatings does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Ozone, Reporting and recordkeeping requirements, Volatile organic compounds.

Authority: 42 U.S.C. 7401 et seq.

Dated: July 7, 2015.
William C. Early,
Acting, Regional Administrator, Region III.

[FR Doc. 2015-17470 Filed 7-16-15; 8:45 am]

BILLING CODE 6560-50-P